DEPARTMENT OF TRANSPORTATION

Federal Aviation Administration

Fifth Meeting—RTCA Special Committee 217/EUROCAE WG 44—Airport Mapping Databases

AGENCY: Federal Aviation Administration (FAA), DOT.

ACTION: Notice of RTCA Special Committee 217 meeting: Airport Mapping Databases.

SUMMARY: The FAA is issuing this notice to advise the public of a meeting of RTCA Special Committee 217 meeting: Airport Mapping Databases.

DATES: The meeting will be held on October 21-23, 2008, from 9 a.m. to 5 p.m.

ADDRESS: The meeting will be held at Novotel-Airport Hotel, Zurich, Switzerland.

FOR FURTHER INFORMATION CONTACT: RTCA Secretariat, 1828 L Street, NW., Suite 805, Washington, DC 20036-5133; telephone (202) 833-9339; fax (202) 833-9434; Web site http://www.rtca.org. Or Andreas Paul of Lufthansa Systems FlightNav, Tel: 32-2-729 3194, Fax: 32-2-729 9008.

SUPPLEMENTARY INFORMATION: Pursuant to section 10(a)(2) of the Federal Advisory Committee Act (Pub. L. 92-463, 5 U.S.C., Appendix 2), notice is hereby given for a Special Committee 217 meeting. The agenda will include:

21 October

• Opening Plenary

• Chairmen's remarks and introductions

• Review and approve meeting agenda

• Discussion

• Schedule for this week

• Schedule for next meetings

• Presentations

• Presentations

• Report of September Telecon—Jens Schiefele

• Additional AMDB Requirements Related to D-Taxi Datalink and Runway Safety—Sam van der Stricht and Christian Bousmanne

• Meet to revise documents

22 October

• Plenary Session

23 October—Thursday

• Closing Plenary Session

• Other Business

• Determine and agree on action plan

• Meeting Plans and Dates

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on September 17, 2008.
Francisco Estrada C.,
RTCA Advisory Committee.

[FR Doc. E8-22479 Filed 9-23-08; 8:45 am]

BILLING CODE 4910-13-P